DEPARTMENT OF COMMERCE

National Oceanic and Atmospheric Administration

RIN 0648-XG037

Endangered Species; File No. 21467

AGENCY: National Marine Fisheries Service (NMFS), National Oceanic and Atmospheric Administration (NOAA), Commerce.

ACTION: Notice; receipt of application.

SUMMARY: Notice is hereby given that Karen Holloway-Adkins, Ph.D., East Coast Biologists, Inc., P.O. Box 37715, Indialantic, Florida 32903, has applied in due form for a permit to take green (Chelonia mydas) and loggerhead (Caretta caretta) sea turtles for purposes of scientific research.

DATES: Written, telefaxed, or email comments must be received on or before April 4, 2018.

ADDRESSES: The application and related documents are available for review by selecting “Records Open for Public Comment” from the “Features” box on the Applications and Permits for Protected Species (APPS) home page, https://apps.nmfs.noaa.gov, and then selecting File No. 21467 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Erin Markin or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

Karen Holloway-Adkins proposes to continue to characterize the population of green and loggerhead sea turtles in nearshore reefs in Brevard County, Florida to determine: (1) Spatial and temporal distribution, (2) mean size, (3) foraging habitats, (4) body conditions and fibropapillomatosis ratios, (5) genetic origin, and (6) home-range, site fidelity, and residency times. Up to 80 green and six loggerhead sea turtles would be captured by hand or using dip or tangle nets, annually. All captured green sea turtles would be measured, weighed, and photographed and released. Annually, up to 65 green sea turtles also would be tagged (passive integrated transponder [PIT] and flipper), and biologically sampled (blood and tissue) and a subset would receive a transmitter (drill carapace or epoxy attachment) or undergo lavage prior to release. Loggerhead sea turtles would be tagged (PIT and flipper), biologically sampled (blood and tissue), photographed, measured, and weighed prior to release.

Dated: February 27, 2018.
Julia Harrison,
Chief, Permits and Conservation Division, Office of Protected Resources, National Marine Fisheries Service.

[FR Doc. 2018-04361 Filed 3-2-18; 8:45 am]

BILLING CODE 3510-22-P